COMMISSION ON CIVIL RIGHTS

Agenda and Notice of Public Meeting of the Tennessee Advisory Committee

Notice is hereby given, pursuant to the provisions of the rules and regulations of the U.S. Commission on Civil Rights (Commission), and the Federal Advisory Committee Act (FACA), that a planning meeting with briefing of the Tennessee Advisory Committee to the Commission will convene at 1 p.m. and adjourn at 5 p.m. on Monday, August 6, 2007 at the Hamilton County Commissioner Conference Room, 25 Georgia Avenue, Chattanooga, Tennessee. The purpose of the planning meeting with briefing is to give an orientation to members, discuss the Committee's report on school desegregation, receive a briefing on religious freedom for prisoners, and discuss future activities of the Committee.

Members of the public are entitled to submit written comments; the comments must be received in the Southern Regional Office by Monday, August 20, 2007. The address is 61 Forsyth Street, SW., Suite 18T40, Atlanta, Georgia 30303. Persons wishing to e-mail their comments, or to present their comments verbally at the meeting, or who desire additional information should contact Peter Minarik, Ph.D., Regional Director, Southern Regional Office, U.S. Commission on Civil Rights at (404) 562-7000 [TDY 202-376-8116], or by e-mail at: pminarik@usccr.gov.

Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, http://www.usccr.gov, or to contact the Southern Regional Office at the above e-mail or street address.

The meeting will be conducted pursuant to the provisions of the rules and regulations of the Commission and FACA.

Dated in Washington, DC, July 23, 2007.
Ivy Davis,
Acting Chief, Regional Programs Coordination Unit.

[FR Doc. E7-14609 Filed 7-27-07; 8:45 am]

BILLING CODE 6335-02-P